NATIONAL SCIENCE FOUNDATION

Special Emphasis Panel in Experimental Program To Stimulate Competitive Research, Committee of Visitors; Notice of Meeting

In accordance with the Federal Advisory Committee Act (Pub. L. 92-463, as amended), the National Science Foundation announces the following meeting.

Name: Special Emphasis Panel in Experimental Program to Stimulate Competitive Research (1198)

Date and Time: May 24-25, 2000; 8 a.m.-5:00 p.m.

Place: National Science Foundation, Room 830, 4201 Wilson Boulevard, Arlington, VA

Type of Meeting: Part-Open.

Contact Person: Dr. Richard J. Anderson, Senior Science Advisor, Office of Experimental Program to Stimulate Competitive Research, Room 875, National Science Foundation, 4201 Wilson Blvd., Arlington, VA 22230. (703) 306-1683.

Purpose of Meeting: To carry out Committee of Visitors (COV) review, including examination of decisions on proposals, reviewer comments, and other privileged materials

Public Sessions: May 24; 8 am-10 am; May 25; 3:00 pm-4:00 pm—Presentation of Committee of Visitors findings including outcomes under the Government Performance and Results Act (GPRA).

Agenda: To review and evaluate the Experimental Program to Stimulate Competitive Research Program and provide assessment of program level technical and managerial matters pertaining to proposal decisions and program operations.

Reason for Closing: Proposals being reviewed include information of a proprietary or confidential nature, including technical information; financial data, such as salaries; and personal information concerning individuals associated with proposals. These matters are exempt under 5 U.S.C. 552b(c), (4) and (6) of the Government in the Sunshine Act.

Dated: May 2, 2000.
Karen J. York,
Committee Management Officer.

[FR Doc. 00-11270 Filed 5-4-00; 8:45 am]

BILLING CODE 7555-01-M